DEPARTMENT OF LABOR

Occupational Safety and Health Administration

[Docket No. OSHA-2006-0040]

SGS North America, Inc.: Grant of Expansion of Recognition

AGENCY: Occupational Safety and Health Administration (OSHA), Labor.

ACTION: Notice.

SUMMARY: In this notice, OSHA announces the final decision to expand the scope of recognition for SGS North America, Inc., as a Nationally Recognized Testing Laboratory (NRTL).

DATES: The expansion of the scope of recognition becomes effective on January 22, 2025.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2300 or email: robinson.kevin@dol.gov.

SUPPLEMENTARY INFORMATION:

I. Notice of Final Decision

OSHA hereby gives notice of the expansion of the scope of recognition of SGS North America, Inc. (SGS) as a NRTL. SGS's expansion covers the addition of six test sites and one test standard to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including SGS, which details the NRTL's scope of recognition. These pages are available from the OSHA website at http://www.osha.gov/dts/otpca/nrtl/index.html.

SGS submitted five applications to OSHA to expand recognition as a NRTL. The first application was received on March 20, 2022 (OSHA-2006-0040-0084), requesting the addition of one test site in Brussels, Belgium. This application was revised on January 9, 2024 (OSHA-2006-0040-0089) to update the address on the original application. The second expansion application was received on March 29, 2022 (OSHA-2006-0040-0085), requesting the addition of one test site in Yokohama, Japan. This application was revised on May 9, 2024 (OSHA-2006-0040-0091) requesting an additional test standard in addition to the Yokohama site. The third expansion application was received on March 30, 2022 (OSHA-2006-0040-0086), requesting the addition of one test site in Munich, Germany. This application was revised on January 9, 2024 (OSHA-2006-0040-0090) to update the address on the application to Puchheim, Germany. The fourth (OSHA-2006-0040-0087) and fifth (OSHA-2006-0040-0088) applications were received on April 1, 2022, requesting the addition of two test sites in New Taipei City, Taiwan and one in Gunpo-si, Gyeonggi-do, Korea. In total, the applications requested the addition of six sites and one test standard to the NRTL scope of recognition.

OSHA staff performed a detailed analysis of the application packets and reviewed other pertinent information. OTPCA staff also performed on-site reviews of SGS's Korea site on April 25 and May 7, 2024; SGS's two Taiwan sites on February 29-March 1, 2024; SGS's Germany site on June 15-16, 2023; SGS's Belgium site on June 15-16, 2023; and SGS's Japan on May 9-10, 2024, in which the assessors found some nonconformances with the requirements of 29 CFR 1910.7. SGS addressed these issues sufficiently and OTPCA has preliminarily determined that OSHA should grant the application requests to add these six test sites and one test standard to SGS's NRTL scope of recognition.

OSHA published the preliminary notice announcing SGS's expansion applications in the Federal Register on November 5, 2024 (89 FR 87895). The agency requested comments by November 20, 2024, however no comments were received in response to this notice. OSHA is now proceeding with this notice to grant expansion to SGS's scope of recognition.

To obtain or review copies of all public documents pertaining to the SGS expansion applications, go to www.regulations.gov or contact the Docket Office (202) 693-2350 (TTY (877) 889-5627. Docket No. OSHA-2006-0040 contains all materials in the record containing SGS's recognition.

II. Final Decision and Order

OSHA staff examined SGS's expansion applications, conducted detailed on-site assessments, and examined other pertinent information. Based on review of this evidence, OSHA finds that SGS meets the requirements of 29 CFR 1910.7 for expansion of recognition, subject to the specified limitations and conditions. OSHA, therefore, is proceeding with this final notice to grant SGS's scope of recognition. OSHA limits the expansion of SGS's recognition to include the sites listed below:

Table 1—List of Test Sites to be Included in SGS's NRTL Scope of Recognition
Site name | Address | Country
SGS Korea Co., Ltd | 4, LS-ro 182 beon-gil, Gunpo-si, Gyeonggi-do, Republic of Korea 15807 | Korea
SGS Taiwan Ltd | No. 31 & 33, Wu Chyuan Road, New Taipei Industrial Park, Wu Ku District, New Taipei City, Taiwan 248, Chinese Taipei | Taiwan
SGS Taiwan Ltd. Site 2 | No. 17, Wu Chyuan 8th Road, New Taipei Industrial Park, Wu Ku District, New Taipei City, Taiwan 248, Chinese Taipei | Taiwan
SGS Germany GmbH | Benzstrasse 26/28, D-82178 Puchheim | Germany
SGS Belgium N.V | Riverside Business Park, Bld. Internationalelaan, 55/A, BE—1070 Brussels | Belgium
SGS Japan Inc | 134, Good-cho, Hodogaya-ku, Yokohama Business Park North, Square I 3F, Yokohama, 240-0005 | Japan

Table 2 lists the one test standard included in SGS's applications for expansion for testing and certification of products under the NRTL Program.

Table 2—Appropriate Test Standard for Inclusion in SGS's NRTL Scope of Recognition
Test standard | Test standard title
ASME A17.5 | Elevator and Escalator Electrical Equipment.

OSHA's recognition of the sites listed in table 1 above, limits SGS to performing product testing and certifications only to the test standards for which the site has the proper capability and programs, and for test standards in SGS's scope of recognition. This limitation is consistent with the recognition that OSHA grants to other NRTLs that operate multiple sites. OSHA's recognition of any NRTL for a particular test standard is limited to equipment or materials for which OSHA standards require third-party testing and certification before using them in the workplace. Consequently, if a test standard also covers any products for which OSHA does not require such testing and certification, a NRTL's scope of recognition does not include these products.

A. Conditions

In addition to those conditions already required by 29 CFR 1910.7, SGS must abide by the following conditions of the recognition:

1. SGS must inform OSHA as soon as possible, in writing, of any change of ownership, facilities, or key personnel, and of any major change in its operations as a NRTL, and provide details of the change(s);

2. SGS must meet all the terms of its recognition and comply with all OSHA policies pertaining to this recognition; and

3. SGS must continue to meet the requirements for recognition, including all previously published conditions on SGS's scope of recognition, in all areas for which it has recognition.

Pursuant to the authority in 29 CFR 1910.7, OSHA hereby expands the scope of recognition of SGS as a NRTL, to include six recognized testing sites and one recognized test standard, subject to the limitations and conditions specified above.

III. Authority and Signature

James S. Frederick, Deputy Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393; Sept. 18, 2020), and 29 CFR 1910.7.

Signed at Washington, DC, on January 14, 2025.
James S. Frederick,
Deputy Assistant Secretary of Labor for Occupational Safety and Health.

[FR Doc. 2025-01396 Filed 1-21-25; 8:45 am]

BILLING CODE 4510-26-P